COMMISSION ON CIVIL RIGHTS

Sunshine Act Notice

Agency: United States Commission on Civil Rights.

Action: Notice of meeting.

Date and Time: Friday, May 9, 9:30 a.m.

Place: U.S. Commission on Civil Rights, 624 Ninth Street, NW., Rm. 540, Washington, DC 20425.

Meeting Agenda

I. Approval of Agenda

II. Approval of Minutes

• March 7, 2008 Meeting

III. Announcements

IV. Staff Director's Report

V. Management and Operations

• Status of FY 2009 Budget Submission

VI. Program Planning

• Proposed Change to 2008 Briefing Schedule

• 2010 Program Planning Proposals

• Briefing Report on Voter Fraud and Voter Intimidation

• Briefing Report on Racial Categorization in the Census

• Briefing Report on the Educational Effectiveness of Historically Black Colleges and Universities

VII. State Advisory Committee Issues

• Florida SAC

• Kentucky SAC

• Wyoming SAC

• Appointment to Texas SAC

VIII. Future Agenda Items

IX. Adjourn

For Further Information Contact: Lenore Ostrowsky, Acting Chief, Public Affairs Unit (202) 376-8582.

Dated: April 29, 2008.
David Blackwood,
General Counsel.

[FR Doc. 08-1207 Filed 4-29-08; 1:57pm]

BILLING CODE 6335-01-P